DEPARTMENT OF AGRICULTURE

Foreign Agricultural Service

Notice of Request for Approval of an Existing Information Collection in use Without an Office of Management and Budget Control Number

AGENCY: Foreign Agricultural Service, USDA.

ACTION: Notice of Information Collection; request for comments.

SUMMARY: In accordance with the Paperwork Reduction Act of 1995, the Foreign Agricultural Service (FAS) intends to request approval for an existing information collection in use without an Office of Management and Budget (OMB) control number for the Embassy Science Fellows Program.

DATES: Comments on this notice must be received by December 27, 2022 to be assured of consideration.

ADDRESSES: You may send comments, identified by OMB Control Number 0551-New, by any of the following methods:

• Federal eRulemaking Portal: http://www.regulations.gov. This portal enables respondents to enter short comments or attach a file containing lengthier comments.

• Email: FAS.FellowshipPrograms@usda.gov. Include OMB Control Number 0551-New in the subject line of the message.

• Mail, Courier, or Hand Delivery: Giovanna Casas Reyes, U.S. Department of Agriculture, Foreign Agricultural Service, 1400 Independence Avenue SW, Room 6609, Washington, DC 20250.

Instructions: All submissions received must include the agency names and OMB Control Number for this notice. All comments received will be posted without change to http://www.regulations.gov, including any personal information provided.

FOR FURTHER INFORMATION CONTACT: Giovanna Casas Reyes, 202-720-9207, FAS.FellowshipPrograms@usda.gov.

SUPPLEMENTARY INFORMATION:

Title: Embassy Science Fellows Program application.

OMB Number: 0551-New.

Expiration Date of Approval: Three years from approval date.

Type of Request: Existing collection in use without an OMB control number.

Abstract: The Embassy Science Fellows Program (ESFP) was established in 2002 as a collaboration between USDA's Foreign Agricultural Service and the U.S. Department of State to provide U.S. embassies access to the subject matter expertise of U.S. government officials in science and technology fields. Fifteen U.S. Government agencies, including FAS, participate in the ESFP. The Program provides technical experts to U.S. embassies all over the world to assist with issues related to agriculture, science, technology, and health. Since the program's inception, FAS has sponsored 42 Fellows in 27 countries.

To achieve its objectives, ESFP relies on the solicitation for qualified program applicants through a written application. FAS Posts across the globe provide this application to potential Fellows to assist in determining the adequacy of their candidacy alongside FAS Washington. The application is designed to capture the professional status of the applicant, the applicant's personal contact information, and the applicant's suitability for the program. Thus, the ESFP application is an integral tool to Fellowship Programs Division and FAS' strategic goals at large.

In addition to information related to program objectives, the ESFP application collects information that may be considered Personal Identifiable Information (PII), including the following: name, gender, birth date, birth city, citizenship country, country of residence, work phone, permanent home address, work address, personal email, work email, and emergency contact information (family contact: name, relationship, home phone, cell phone, and email).

Estimate of Burden: The public reporting burden for each respondent resulting from information collection under ESFP varies in direct relation to the number of fellowships that each respondent participates in.

Type of Respondents: Individuals.

Estimated Number of Annual Respondents: 10.

Estimated Number of Annual Responses per Respondent: 1.

Estimated Total Annual Burden of Respondents: 8 hours.

Copies of this information collection can be obtained from Dacia Rogers, the Agency Information Collection Coordinator, at Dacia.Rogers@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for OMB approval.

Persons with disabilities who require an alternative means for communication of information (Braille, large print, audiotape, etc.) should contact FAS-ReasonableAccommodation@usda.gov or Felice Robinson (Senior Reasonable Accommodations Specialist), Felice.Robinson@usda.gov.

Brooke Jamison,
Acting Administrator, Foreign Agricultural Service.

[FR Doc. 2022-23398 Filed 10-26-22; 8:45 am]

BILLING CODE 3410-10-P